DEPARTMENT OF ENERGY

Biological and Environmental Research Advisory Committee

AGENCY: Office of Science, Department of Energy.

ACTION: Notice of open teleconference.

SUMMARY: This notice announces a teleconference of the Biological and Environmental Research Advisory Committee (BERAC). The Federal Advisory Committee Act requires that public notice of these meetings be announced in the Federal Register.

DATES: Monday, June 12, 2017; 3:00 p.m. to 5:00 p.m. (EDT).

ADDRESSES: This meeting will be held via webcast using Zoom. Instructions for Zoom can be found on the BERAC meeting Web site at: https://science.energy.gov/ber/berac/meetings/.

FOR FURTHER INFORMATION CONTACT: Dr. Tristram West, Designated Federal Officer, BERAC, U.S. Department of Energy, Office of Science, Office of Biological and Environmental Research, SC-23/Germantown Building, 1000 Independence Avenue SW., Washington, DC 20585-1290. Phone (301) 903-5155; fax (301) 903-5051 or email: tristram.west@science.doe.gov.

SUPPLEMENTARY INFORMATION:

Purpose of the Committee: To provide advice on a continuing basis to the Director, Office of Science of the Department of Energy, on the many complex scientific and technical issues that arise in the development and implementation of the Biological and Environmental Research Program.

Purpose of the Meeting: Teleconference call is open to the public and is being held to discuss progress towards the BERAC charge for developing a long term research visioning report.

Tentative Agenda Topics

• Review and discuss the draft Grand Challenges report based on the charge letter dated March 3, 2016 (https://science.energy.gov/~/media/ber/berac/pdf/Reports/BERAC_Strategic_charge_letter.pdf). BERAC will discuss the Executive Summary, draft report, and potentially approve the summary findings.

Public Participation: The teleconference meeting is open to the public. If you would like to file a written statement with the Committee, you may do so either before or after the meeting. If you would like to make oral statements regarding the item on the agenda, you should contact Tristram West at the address or telephone number listed above. You must make your request for an oral statement at least five business days before the meeting. Reasonable provision will be made to include the scheduled oral statements on the agenda. The Chairperson of the Committee will conduct the meeting to facilitate the orderly conduct of business. Public comment will follow the 10-minute rule.

Minutes: The minutes of this meeting will be available for public review and copying within 45 days at the BERAC Web site: http://science.energy.gov/ber/berac/meetings/berac-minutes/.

Issued in Washington, DC, on May 11, 2017.
LaTanya R. Butler,
Deputy Committee Management Officer.

[FR Doc. 2017-09981 Filed 5-16-17; 8:45 am]

BILLING CODE 6450-01-P